DEPARTMENT OF COMMERCE

National Institute of Standards and Technology

15 CFR Part 272

[Docket No. 260210-0043]

RIN 0693-AB73

Eliminating Obsolete Marking Requirements for Toy, Look-Alike, and Imitation Firearms

AGENCY: National Institute of Standards and Technology (NIST), Department of Commerce (Department).

ACTION: Final rule.

SUMMARY: By this rule, NIST removes its regulation setting forth marking requirements for toy, look-alike, and imitation firearms. Pursuant to statutory amendments made by the CHIPS and Science Act of 2022, the subject regulation now lacks an underlying statutory authorization and has been rendered obsolete by the new, operative marking requirements issued by the Consumer Product Safety Commission (CPSC). The removal of the subject NIST regulation is therefore necessary to reflect the current state of the underlying law and to eliminate obsolete regulatory language. This action is intended to minimize the risk of public confusion regarding the applicable marking requirements and governing authority for toy, look-alike, and imitation firearms and to promote administrative efficiency.

DATES: The rule is effective February 19, 2026.

FOR FURTHER INFORMATION CONTACT: Daniel Sweeney, Senior Counsel, Office of the General Counsel, at (202) 482-1395.

SUPPLEMENTARY INFORMATION: This action eliminates NIST's regulation at 15 CFR part 272, which sets forth various marking requirements for toy, look-alike, and imitation firearms. Part 272 was promulgated by a final rule published on May 5, 1989 (54 FR 19358), to implement Section 4 of the Federal Energy Management Improvement Act of 1988 (Pub. L. 100-615), codified at 15 U.S.C. 5001. In 2022, as part of the CHIPS and Science Act, Section 4 was amended to replace the Department (and NIST) with CPSC as the relevant agency. See Public Law 117-167, 136 Stat. 1366, 1492. CPSC has since promulgated the new, operative marking requirements for toy, look-alike, and imitation firearms at 16 CFR part 1272. In sum, NIST's regulation at 15 CFR part 272 is now no longer authorized by the underlying statute, and it also has been rendered obsolete by CPSC's regulation at 16 CFR part 1272. The elimination of 15 CFR part 272 is therefore necessary to reflect Congress's amendment of 15 U.S.C. 5001, to remove outdated and obsolete regulatory language, and to minimize the risk of public confusion regarding the status and applicability of both 15 CFR part 272 and 16 CFR part 1272.

Regulatory Classifications

A. Administrative Procedure Act

Pursuant to 5 U.S.C. 553(b)(B), the Department finds good cause to waive the prior notice and opportunity for public participation requirements of the Administrative Procedure Act for this final rule. The Department considers this rule to be uncontroversial, and has determined that prior notice and opportunity for public participation is unnecessary, because this rule only removes a regulation that lacks a valid statutory authorization, no longer serves any purpose, and poses some risk of confusing the public; public participation would not justify the continued maintenance of 15 CFR part 272 under the Department's regulatory policy. For the same reason, the Department has determined that delaying the effectiveness of this elimination would be contrary to the public interest. Eliminating part 272, an obsolete regulation that poses some risk of confusion, will immediately benefit the public at little to no cost. The Department therefore finds good cause to waive the public notice and comment period under 553(b)(B) and to waive the 30-day delay in effectiveness under 553(d).

B. Executive Orders 12866, 14192, and 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501, et seq.

List of Subjects for 15 CFR Part 272

Labeling, Consumer protection, Safety.

Alicia Chambers,
NIST Executive Secretariat.

PART 272—[REMOVED AND RESERVED]

Accordingly, for the reasons set forth above and under the authority of 15 U.S.C. 277, part 272 of title 15 of the Code of Federal Regulations is removed and reserved.

[FR Doc. 2026-03307 Filed 2-18-26; 8:45 am]

BILLING CODE 3510-13-P